DEPARTMENT OF COMMERCE

International Trade Administration

Applications for Duty-Free Entry of Scientific Instruments

Pursuant to Section 6(c) of the Educational, Scientific and Cultural Materials Importation Act of 1966 (Pub. L. 89-651; 80 Stat. 897; 15 CFR part 301), we invite comments on the question of whether instruments of equivalent scientific value, for the purposes for which the instruments shown below are intended to be used, are being manufactured in the United States.

Comments must comply with 15 CFR 301.5(a)(3) and (4) of the regulations and be filed within 20 days with the Statutory Import Programs Staff, U.S. Department of Commerce, Washington, DC 20230. Applications may be examined between 8:30 a.m. and 5 p.m. in Suite 4100W, U.S. Department of Commerce, Franklin Court Building, 1099 14th Street, NW., Washington, DC.

Docket Number: 05-003. Applicant: Brigham Young University, Purchasing Department, C-144 ASB. Provo, UT 84602.

Instrument: Electron microscope, Model Tecnai F-20 Twin.

Manufacturer: FEI Company, The Netherlands. Intended Use: The instrument is intended to be used for high-resolution electron microscopy, electron crystallography, parallel and convergent beam electron diffraction and electron energy-loss spectroscopy. Phenomena at the nano-scale and properties of a variety of materials of scientific and technological significance will be studied. Application accepted by Commissioner of Customs: January 31, 2005.

Docket Number: 05-004. Applicant: University of Delaware, 201 duPont Hall, Dept. of Matls. and Eng., University of Delaware, Newark, DE 19716. Instrument: Electron Microscope, Model Tecnai G² 12 Twin. Manufacturer: Fei Company, Czech Republic. Intended Use: The instrument is intended to be used to study the microstructure of polymers, colloids and biomaterials and other materials from room temperature down to that of liquid nitrogen. It will be used to investigate morphology of phases, crystal structure and defects including vesicles and micelles, colloids as well as polypeptide and polymer mesoscale and nanoscale structure and structure-property relationships. Application accepted by Commissioner of Customs: January 31, 2005.

Docket Number: 04-005. Applicant: University of Vermont, Physics Dept., 82 University Place, (Cook Building), Bulington, VT. 05405. Instrument: Excimer Laser. Manufacturer: TUI Laser AG, Germany. Intended Use: The instrument is intended to be used to make thin film materials with scientifically interesting electrical and magnetic properties using a pulsed laser deposition process which will be subjected to a variety of measurements to determine their atomic and molecular structure as well as relevant electrical and magnetic properties in order to elucidate the fundamental properties of thin film materials.

Application accepted by Commissioner of Customs: February 7, 2005.

Gerald A. Zerdy,
Program Manager, Statutory Import Programs Staff.

[FR Doc. E5-759 Filed 2-23-05; 8:45 am]

BILLING CODE 3510-DS-P